NUCLEAR REGULATORY COMMISSION

[Docket No. 70-143-MLA-2; ASLBP No. 03-810-02-MLA]

Nuclear Fuel Services, Inc.; Designation of Presiding Officer

Pursuant to delegation by the Commission, see 37 FR 28,710 (Dec. 29, 1972), and the Commission's regulations, see 10 CFR §§ 2.1201, 2.1207, notice is hereby given that (1) a single member of the Atomic Safety and Licensing Board Panel is designated as Presiding Officer to rule on petitions for leave to intervene and/or requests for hearing; and (2) upon making the requisite findings in accordance with 10 CFR § 2.1205(h), the Presiding Officer will conduct an adjudicatory hearing in the following proceeding: Nuclear Fuel Services, Inc., Erwin, Tennessee, (Material License Amendment-2).

The hearing will be conducted pursuant to 10 CFR part 2, subpart L, of the Commission's Regulations, “Informal Hearing Procedures for Adjudications in Materials and Operator Licensing Proceedings.” This proceeding concerns requests for hearing submitted on February 6, 2003, by Friends of the Nolichucky River Valley, Inc., the State of Franklin Group of the Sierra Club, the Oak Ridge Environmental Peace Alliance, the Tennessee Environmental Council, and Kathy Helms-Hughes. The requests were filed in response to an NRC staff notice of receipt of a second request from Nuclear Fuel Services, Inc. (NFS), to amend its special nuclear materials license to support downblending and conversion of high-enriched uranium material to low-enriched uranium oxides. This amendment would allow processing operations at its Erwin, Tennessee Blended Low-Enriched Uranium Preparation Facility to prepare low-enriched uranium solutions for a new complex that would manufacture low-enriched nuclear reactor fuel. The notice of receipt of amendment request and opportunity for a hearing were published in the Federal Register on January 7, 2003 (68 FR 796).

The Presiding Officer in this proceeding is Administrative Judge Alan S. Rosenthal. Pursuant to the provisions of 10 CFR §§ 2.722, 2.1209, Administrative Judge Richard F. Cole has been appointed to assist the Presiding Officer in taking evidence and in preparing a suitable record for review.

All correspondence, documents, and other materials shall be filed with Judges Rosenthal and Cole in accordance with 10 CFR § 2.1203. Their addresses are: Administrative Judge Alan S. Rosenthal, Presiding Officer, Atomic Safety and Licensing Board Panel, U.S. Nuclear Regulatory Commission, Washington, DC 20555-0001; Administrative Judge Richard F. Cole, Special Assistant, Atomic Safety and Licensing Board Panel, U.S. Nuclear Regulatory Commission, Washington, DC 20555-0001.

Issued at Rockville, Maryland, this thirteenth day of February 2003.
G. Paul Bollwerk, III,
Chief Administrative Judge, Atomic Safety and Licensing Board Panel.

[FR Doc. 03-4111 Filed 2-20-03; 8:45 am]

BILLING CODE 7590-01-P